ENVIRONMENTAL PROTECTION AGENCY

[FRL-7801-3, Docket ID No. OAR-2004-0075]

Notice Announcing Public Meeting of the Clean Air Act Advisory Committee's Task Force on the Performance of the Title V Operating Permits Program

AGENCY: Environmental Protection Agency (EPA).

ACTION: Notice.

SUMMARY: Today EPA announces a public meeting of the Clean Air Act Advisory Committee's (CAAAC) Task Force on the Performance of the Title V Operating Permits Program. The meeting will be held on September 14, 2004, in Chicago, Illinois, at the Holiday Inn Chicago City Centre, 300 East Ohio Street, Chicago, Illinois 60611, telephone 312-787-6100 from 9 a.m. until 9 p.m. Breaks will be held from noon to 1 p.m. and 5 to 7 p.m. for lunch and dinner, respectively. The EPA solicits interested parties with experience in the title V program to provide testimony to the Task Force on what is working well and/or poorly in this program. Those desiring to testify are asked to notify EPA by September 9, 2004 (contact information follows). The EPA is also considering whether to extend the meeting to September 15, 2004, and will make that decision based on the level of response to this notice. See this Web site for updated information: http://www.epa.gov/oar/caaac.

FOR FURTHER INFORMATION CONTACT: Mr. Ray Vogel, Information Transfer and Implementation Division, Office of Air Quality Planning and Standards, Mail Code C304-04, U.S. Environmental Protection Agency, Research Triangle Park, North Carolina 27711; telephone: 919-541-3153; fax: 919-541-5509; and e-mail address: vogel.ray@epa.gov.

SUPPLEMENTARY INFORMATION:

A. Who Is This Task Force and What Is the Purpose of This Public Meeting?

The Task Force was created this June in response to a recommendation from the Permitting/Toxics Subcommittee of the CAAAC. The Task Force is made up of 18 representatives from State and local permitting agencies, industry, and environmental and public interest groups. The Task Force will gather information from interested persons on the performance of the title V operating permits program and prepare a report documenting how the title V program is performing and what elements are working well and/or poorly. The report may include suggestions on how to improve the program. The Task Force is gathering information by, among other things, holding a series of three public meetings.

The purpose of these public meetings is to gather information on the performance of the title V program, specifically on aspects of the program that are working well and those that are working poorly. The Task Force welcomes any information from stakeholders that will help it prepare its report on the performance of the title V program.

For further information on the task force, see the May 17, 2004 notice in the Federal Register (69 FR 27922) and the CAAAC Web site: http://www.epa.gov/oar/caaac.

B. How Do I Participate in This Public Meeting?

The meeting will be held on September 14, 2004, in Chicago, Illinois, at the Holiday Inn Chicago City Centre, 300 East Ohio Street, Chicago, Illinois 60611, telephone 312-787-6100 from 9 a.m. until 9 p.m. Breaks from noon to 1 p.m. and 5 to 7 p.m. will be held for lunch and dinner, respectively. Those interested in speaking are asked to contact Ray Vogel by September 9, 2004. If there is sufficient interest, EPA will extend the public meeting to September 15, 2004, from 8 a.m. to 12 p.m. For this reason, we strongly encourage participants to notify EPA as soon as possible if they plan to speak. Those signing up early will increase the likelihood that the Task Force can accommodate their choice of date and time. If EPA extends the meeting, we will announce the extension on the CAAAC Web site: http://www.epa.gov/oar/caaac. You may also contact Ray Vogel at (919) 541-3153.

The Task Force requests that presenters at the public meeting limit their presentation to no more than 15 minutes and be prepared to answer follow-up questions from members of the Task Force. If you wish to present more information than can be accommodated in the allotted time, you should put the information in written remarks that supplement your presentation. Speakers should bring a copy (disk or hard copy) to submit for the public record at the meeting. The meeting will be recorded, and a transcript will be made and placed in the public docket.

As noted above, the Task Force is most interested in testimony based on your experience, of what is working well, what is not working well, and any recommendations you have for improvements to the title V program. We strongly encourage speakers to support their testimony with actual examples designed to help the task force understand your concern(s) and how your recommended improvements would address these concerns.

C. How Do I Get Copies of the Draft Report of the Task Force and Other Public Information Related to the Task Force's Work?

Audio and written transcripts of the testimony from the public meetings are available at the CAAAC Web site: http:// www.epa.gov/oar/caaac. The draft report (when it is created sometime next year) will also be available on the Web site. These same materials will also be available electronically through the EPA e-docket at: http:// www.epa.gov/edocket/. To submit or view public comments, access the index listing of the contents of the official public docket, and to access those documents in the public docket that are available electronically, select “search,” then key in the appropriate docket ID number. The docket number for this action is OAR-2004-0075.

Dated: August 10, 2004.
Anna B. Duncan,
Acting Director, Office of Air Quality Planning and Standards.

[FR Doc. 04-18656 Filed 8-13-04; 8:45 am]

BILLING CODE 6560-50-P